OFFICE OF PERSONNEL MANAGEMENT

Federal Employees' Group Life Insurance Program: New Option B Premiums

AGENCY: Office of Personnel Management.

ACTION: Notice.

SUMMARY: The Office of Personnel Management (OPM) is announcing new Federal Employees' Group Life Insurance (FEGLI) premiums for the upper age bands of Option B. The premiums will be maintained on the FEGLI Web site at http://www.opm.gov/insure/life.

EFFECTIVE DATE: January 1, 2004.

FOR FURTHER INFORMATION CONTACT: Karen Leibach, (202) 606-0004.

SUPPLEMENTARY INFORMATION: On December 30, 2002, OPM published a Federal Register notice (67 FR 79659) announcing premium changes for FEGLI and new age bands for Options B and C. The premiums for the new Option B age bands are being phased in over a 3-year period. The first set of premiums for these age bands was effective the first pay period beginning on or after January 1, 2003.

This notice announces the second phase of the Option B premium changes. These premiums are effective the first pay period beginning on or after January 1, 2004.

Option B Premium per $1,000 of Insurance
Age band | Biweekly | Monthly
70-74 | $1.03 | $2.232
75-79 | 1.43 | 3.098
80 and over | 1.83 | 3.965

The premiums for compensationers, who are paid every 4 weeks, are 2 times the biweekly premium amounts.

Premiums for other FEGLI coverages, including premiums for other Option B age bands, are not changing.

U.S. Office of Personnel Management.
Kay Coles James,
Director.

[FR Doc. 03-29438 Filed 11-24-03; 8:45 am]

BILLING CODE 6325-50-P